DEPARTMENT OF COMMERCE

National Oceanic and Atmospheric Administration

RIN 0648-XR87

Marine Mammals; File No. 1100-1849

AGENCY: National Marine Fisheries Service (NMFS), National Oceanic and Atmospheric Administration (NOAA), Commerce.

ACTION: Notice; receipt of application for amendment.

SUMMARY: Notice is hereby given that Shane Moore, Moore & Moore Films, Box 2980, 1203 Melody Creek Lane, Jackson, Wyoming 83001, has applied for an amendment to Commercial Photography Permit No. 1100-1849.

DATES: Written, telefaxed, or e-mail comments must be received on or before October 29, 2009.

ADDRESSES: The application and related documents are available upon written request or by appointment in the following offices:

Permits, Conservation and Education Division, Office of Protected Resources, NMFS, 1315 East-West Highway, Room 13705, Silver Spring, MD 20910; phone (301)713-2289; fax (301)713-0376; and

Alaska Region, NMFS, P.O. Box 21668, Juneau, AK 99802-1668; phone (907)586-7221; fax (907)586-7249.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular amendment request would be appropriate.

Comments may also be submitted by facsimile at (301)713-0376, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 1100-1849.

FOR FURTHER INFORMATION CONTACT: Carrie Hubard or Amy Hapeman, (301)713-2289.

SUPPLEMENTARY INFORMATION: The subject amendment to Permit No. 1100-1849 is requested under the authority of the Marine Mammal Protection Act of 1972, as amended (16 U.S.C. 1361 et seq.) and the regulations governing the taking and importing of marine mammals (50 CFR part 216).

Permit No. 1100-1849, issued on March 22, 2007 (72 FR 14525), authorizes the permit holder to take 10 killer whales (Orcinus orca) of the Eastern North Pacific Transient stock, 10 gray whales (Eschrichtius robustus), and 10 minke whales (Balaenoptera acutorostrata) annually by close approach for filming in the Gulf of Alaska and Bering Sea. The purpose of the project is to document the behavior of marine animals in the presence of the carcass of a gray or minke whale that was killed by killer whales. The holder is authorized to fix a remotely operated video camera in an underwater housing to the sea floor approximately 15 feet from the carcass. The camera is deployed after the killer whales have left the carcass and is controlled from a boat approximately 100 yards away. In addition, if killer whales, gray whales, or minke whales pass near the boat, the holder may submerge a small camera on a pole to take photographs of passing animals. Filming activities may occur between April 1 and August 31 of each year. The permit expires March 31, 2010.

The permit holder is requesting to extend the permit until March 31, 2012. Since the original permit was issued for three years, the proposed amendment would make the permit effective for five years. Funding constraints have prevented the permit holder from using the permit thus far and the extension would allow the project to be completed. No changes to the objectives, species, location, or methodologies would occur. The amended permit would authorize the same level of take for the two additional years as is currently authorized.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: September 23, 2009.
P. Michael Payne,
Chief, Permits, Conservation and Education Division, Office of Protected Resources, National Marine Fisheries Service.

[FR Doc. E9-23469 Filed 9-28-09; 8:45 am]

BILLING CODE 3510-22-S